NUCLEAR REGULATORY COMMISSION

[Docket No. 50-482]

Wolf Creek Nuclear Operating Corporation; Wolf Creek Generating Station Envrionmental Assessment and Finding of No Significant Impact

The U.S. Nuclear Regulatory Commission (NRC) is considering issuance of an amendment to revise the antitrust conditions applicable to Kansas Gas and Electric Company (KGE) contained in Appendix C to Facility Operating License No. NPF-42 for the Wolf Creek Generating Station (WCGS), located in Coffey County, Kansas. Wolf Creek Nuclear Operating Corporation (the licensee) operates WCGS and acts as the agent for KGE, which co-owns the facility. Therefore, as required by 10 CFR 51.21, the NRC is issuing this environmental assessment and finding of no significant impact.

Environmental Assessment

Identification of the Proposed Action

The proposed action would revise the antitrust conditions for KGE in Appendix C of Facility Operating License No. NPF-42 to (1) add a statement that the antitrust conditions do not restrict the rights of Kansas Electric Power Cooperative, Inc. (KEPCo) or the duties of KGE, that may exist beyond, and are not inconsistent with, the antitrust conditions, (2) define “KGE members in licensee's service area” in the appendix to include all KEPCo members with facilities in Western Resources, Inc.'s and KGE's combined service area, (3) delete license conditions restricting KEPCo's use of the power from WCGS, (4) remove out-of-date conditions, and (5) update conditions to be consistent with the terms and conditions of Western Resources' Federal Energy Regulatory Commission open access transmission tariff. Western Resources is the parent company of KGE. The proposed action is in accordance with the licensee's application dated June 27, 2000, as supplemented by letters dated January 31, May 2, and October 30, 2001, and May 10, 2002.

The Need for the Proposed Action

The proposed action is needed, according to the licensee's application, to update KGE's antitrust conditions and make the antitrust conditions consistent with the terms and conditions of Western Resources' Federal Energy Regulatory Commission open access transmission tariff.

Environmental Impacts of the Proposed Action

The NRC has completed its evaluation of the proposed action and concludes that the proposed license amendment involves administrative actions which have no effect on plant equipment or operation.

The proposed action will not significantly increase the probability or consequences of accidents, no changes are being made in the types of effluents that may be released off site, and there is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in NUREG-0878, “Final Environmental Statement Related to the Operation of Wolf Creek Generating Station, Unit No. 1,” dated June 1982.

Agencies and Persons Consulted

On August 5, 2002, the staff consulted with the Kansas State official, Mr. Thomas A. Conley of the Kansas Department of Health and Environment regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letters dated June 27, 2000, January 31, May 2, and October 30, 2001, and May 10, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff at 1-800-397-4209, or 301-415-4737, or by e-mail at pdr@nrc.gov.

Dated at Rockville, Maryland, this 6th day of August 2002.
For the Nuclear Regulatory Commission.
Stephen Dembek,
Chief, Section 2 Project Directorate IV, Division of Licensing Project Management, Office of Nuclear Reactor Regulation.

[FR Doc. 02-20343 Filed 8-9-02; 8:45 am]

BILLING CODE 7590-01-P